DEPARTMENT OF THE INTERIOR

National Park Service

[NPS-WASO-NAGPRA-NPS0034856; PPWOCRADN0-PCU00RP14.R50000]

Notice of Inventory Completion: C.H. Nash Memorial Museum/Chucalissa Archaeological Museum, University of Memphis, Memphis, TN

AGENCY: National Park Service, Interior.

ACTION: Notice.

SUMMARY: The C.H. Nash Memorial Museum/Chucalissa Archaeological Museum (Nash Museum) has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Nash Museum. If no additional requestors come forward, transfer of control of the human remains and associated funerary objects to the Indian Tribes or Native Hawaiian organizations stated in this notice may proceed.

DATES: Representatives of any Indian tribe or Native Hawaiian organization not identified in this notice that wish to request transfer of control of these human remains and associated funerary objects should submit a written request with information in support of the request to the Nash Museum at the address in this notice by December 12, 2022.

FOR FURTHER INFORMATION CONTACT: C.H. Nash Memorial Museum/Chucalissa Archaeological Museum, University of Memphis, 1987 Indian Village Drive, Memphis, TN 38109, telephone (901) 785-3160, email chucalissa@memphis.edu.

SUPPLEMENTARY INFORMATION: Notice is here given in accordance with the Native American Graves Protection and Repatriation Act (NAGPRA), 25 U.S.C. 3003, of the completion of an inventory of human remains and associated funerary objects under the control of the C.H. Nash Memorial Museum/Chucalissa Archaeological Museum, University of Memphis, Memphis, TN. The human remains and associated funerary objects were removed from Colbert County, AL, Hardeman County, TN, and an unidentified site in northwest TN.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Nash Museum professional staff in consultation with representatives of the Cherokee Nation; Eastern Band of Cherokee Indians; The Chickasaw Nation; and the United Keetoowah Band of Cherokee Indians in Oklahoma.

History and Description of the Remains

In 1981, human remains representing, at minimum, five individuals were removed from site 1CT44 in Colbert County, AL, by C.H. Nash Memorial Museum/Chucalissa Archaeological Museum staff. The human remains (1CT44/2010.01.02, 1CT44/2010.01.03, 1CT44/2010.01.04, 1CT44/2010.01.05, 1CT44/2010.01.06) belong to five individuals of unknown age and sex. No known individuals were identified. The four associated funerary objects are four lithic fragments.

In the 1950s, human remains representing, at minimum, one individual were removed from a site on Spring Creek near the City of Bolivar in Hardeman County, TN. The human remains were surface collected by the Memphis Archaeological and Geological Society and then donated to the Memphis Museums System. In 1984, the Memphis Museums System donated the human remains to the C.H. Nash Museum. The human remains (MAGS Lot #35/8) belong to an adult of unknown sex. No known individual was identified. No associated funerary objects are present.

On an unknown date, human remains representing, at minimum, one individual were removed from an unknown site in northwest TN. The human remains were surface collected by H. Crenshaw. In 1991, Crenshaw donated his collection (C-92), including these human remains, to the C.H. Nash Museum. The human remains (D1991.03.90/1, D1991.03.90.1a) belong to an adult of unknown sex. No known individual was identified. No associated funerary objects are present.

Determinations Made by the C.H. Nash Memorial Museum/Chucalissa Archaeological Museum, University of Memphis

Officials of the C.H. Nash Memorial Museum/Chucalissa Archaeological Museum, University of Memphis have determined that:

• Pursuant to 25 U.S.C. 3001(9), the human remains described in this notice are Native American based on osteological examination, museum records, and/or archeological context.

• Pursuant to 25 U.S.C. 3001(9), the human remains described in this notice represent the physical remains of seven individuals of Native American ancestry.

• Pursuant to 25 U.S.C. 3001(3)(A), the four objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Eastern Band of Cherokee Indians; The Chickasaw Nation; and the United Keetoowah Band of Cherokee Indians in Oklahoma (hereafter referred to as “The Tribes”).

• Treaties, Acts of Congress, or Executive Orders, indicate that the land from which the Native American human remains and associated funerary objects were removed is the aboriginal land of The Tribes.

• Pursuant to 43 CFR 10.11(c)(1), the disposition of the human remains and associated funerary objects may be to The Tribes.

Additional Requestors and Disposition

Representatives of any Indian Tribe or Native Hawaiian organization not identified in this notice that wish to request transfer of control of these human remains and associated funerary objects should submit a written request with information in support of the request to Melissa Buchner, C.H. Nash Memorial Museum/Chucalissa Archaeological Museum, University of Memphis, 1987 Indian Village Drive, Memphis, TN 38109, telephone (901) 785-3160, email chucalissa@memphis.edu, by December 12, 2022. After that date, if no additional requestors have come forward, transfer of control of the human remains and associated funerary objects to The Tribes may proceed.

The C.H. Nash Memorial Museum/Chucalissa Archaeological Museum, University of Memphis is responsible for notifying The Tribes and the Cherokee Nation that this notice has been published.

Dated: November 2, 2022.
Melanie O'Brien,
Manager, National NAGPRA Program.

[FR Doc. 2022-24560 Filed 11-9-22; 8:45 am]

BILLING CODE 4312-52-P